DEPARTMENT OF ENERGY

[OE Docket No. PP-305]

Notice of Intent To Prepare an Environmental Impact Statement and Conduct Scoping; Montana Alberta Tie, Ltd.

AGENCY: Department of Energy (DOE).

ACTION: Notice of intent to prepare an Environmental Impact Statement (EIS).

SUMMARY: The Department of Energy (DOE) announces its intention to prepare an EIS and to conduct scoping on the proposed Federal action of granting a Presidential permit to construct a new electric transmission line across the U.S.-Canada border in northwestern Montana. DOE has determined that issuance of a Presidential permit for the proposed project would constitute a major Federal action that may have a significant effect upon the environment within the meaning of the National Environmental Policy Act of 1969 (NEPA). For this reason, DOE intends to prepare an EIS entitled “The Montana Alberta Tie, Ltd. (MATL) 230-kV Transmission Line Environmental Impact Statement” (DOE/EIS-0399) to address potential environmental impacts from the proposed action and the range of reasonable alternatives. The EIS will be prepared in compliance with NEPA and applicable regulations, including DOE NEPA implementing regulations at 10 CFR part 1021. Because of the previous public participation activities, DOE does not plan to conduct additional scoping meetings for this EIS. Written comments on the scope of the EIS are invited.

FOR FURTHER INFORMATION CONTACT: For information on the proposed project or to receive a copy of the Draft EIS when it is issued, contact Mrs. Ellen Russell, Office of Electricity Delivery and Energy Reliability (OE-20), U.S. Department of Energy, 1000 Independence Avenue, SW., Washington, DC 20585-0350; phone 202-586-9624, facsimile 202-586-8008, or by electronic mail at Ellen.Russell@hq.doe.gov. The MATL Presidential permit application, including associated maps and drawings, can be downloaded in its entirety from the DOE program Web site at http://www.oe.energy.gov/permitting/electricity_imports_exports.htm.

DATES: DOE invites interested agencies, organizations, and members of the public to submit comments or suggestions to assist in identifying significant environmental issues and in determining the appropriate scope of the EIS. The public scoping period starts with the publication of this Notice in the Federal Register and will continue until July 9, 2007. DOE will consider all comments received or postmarked by July 9, 2007 in defining the scope of this EIS.

ADDRESSES: Comments and suggestions on the scope of the EIS should be addressed to: Mrs. Ellen Russell, Office of Electricity Delivery and Energy Reliability (OE-20), U.S. Department of Energy, 1000 Independence Avenue, SW., Washington, DC 20585-0350; or by electronic mail at Ellen.Russell@hq.doe.gov.

SUPPLEMENTARY INFORMATION: Executive Order (E.O.) 10485, as amended by E.O. 12038, requires that a Presidential permit be issued by DOE before electric transmission facilities may be constructed, operated, maintained, or connected at the U.S. international border. The E.O. provides that a Presidential permit may be issued after a finding that the proposed project is consistent with the public interest and after favorable recommendations from the U.S. Departments of State and Defense. In determining whether issuance of a Presidential permit is in the public interest, DOE considers the environmental impacts of the proposed project under NEPA, determines the project's impact on electric reliability (including whether the proposed project would adversely affect the operation of the U.S. electric power supply system under normal and contingency conditions), and any other factors that DOE may also consider relevant to the public interest. The regulations implementing the E.O. have been codified at 10 CFR 205.320-205.329. Issuance of a Presidential permit indicates that there is no Federal objection to the project, but does not mandate that the project be completed.

MATL has applied to DOE's Office of Electricity Delivery and Energy Reliability (OE) for a Presidential permit to construct a 230,000-volt electric transmission line across the U.S. border with Canada, and to the State of Montana Department of Environmental Quality (MDEQ) for a Linear Facilities construction permit. The proposed transmission line would originate at a new substation to be constructed northeast of Lethbridge, Alberta, Canada, cross the U.S.-Canada border, and terminate north of Great Falls, Montana, at an existing substation owned by NorthWestern Energy. The total length of the proposed transmission line would be 203 miles, with approximately 126 miles constructed inside the United States.

DOE originally considered an environmental assessment (EA) to be the appropriate level of review under NEPA and has been cooperating with the MDEQ in the preparation of a single environmental document that would serve as both a Montana State EIS under the Montana Environmental Policy Act and a DOE EA under NEPA.

Identification of Environmental Issues

On November 18, 2005, DOE published a “Notice of Intent to Prepare an Environmental Assessment and to Conduct Public Scoping Meetings and Notice of Floodplain and Wetlands Involvement; Montana Alberta Tie, Ltd.” (70 FR 69962). That notice opened a 45-day scoping period during which the public was invited to participate in the identification of potential environmental impacts that may result from construction of the MATL transmission line project and reasonable alternatives. DOE and MDEQ conducted 6 scoping meetings in the vicinity of the proposed project. Ten issues and concerns were identified as a result of the initial scoping opportunity. These issues and concerns are (1) impacts on farming, ranching and other land uses, (2) impacts on protected, threatened, endangered, or sensitive species of animals or plants, or their critical habitats, (3) impacts on floodplains and wetlands, (4) avian mortality, (5) impacts on cultural or historic resources, (6) impacts on human health and safety, (7) impacts on air, soil, and water, (8) visual impacts, (9) socioeconomic impacts, and (10) impacts from development of wind generation. An additional alternative also was developed by the agencies to address concerns raised by the public and interested agencies during the scoping period.

In March 2007, the MDEQ and DOE published a draft document that was the MDEQ Draft EIS and the DOE EA (March 2007 EA). The document was distributed for public comment and three public hearings were conducted to receive comments on the document during a 55-day public comment period. Based on comments received on the March 2007 EA relating to land use and potential effects on farming, DOE has determined an EIS to be the proper NEPA compliance document.

EIS Preparation and Schedule

In preparing the Draft EIS, DOE will consider comments that DOE and the State received at the 2005 scoping meetings as well as the comments received on the March 2007 EA. DOE is working with the MDEQ to address the comments received on the March 2007 EA and prepare responses to comments which will be set forth in the Draft EIS. Comments submitted on the March 2007 EA need not be resubmitted.

If the March 2007 EA does not require significant modifications to address the comments, DOE will issue, as the DOE Draft EIS, a copy of the March 2007 EA together with any corrections and updated information as errata, and with responses to comments. If extensive modifications are required to adequately address comments, DOE will issue as the DOE Draft EIS a new document that includes the responses to comments. After DOE issues the Draft EIS, DOE will then hold a public hearing and accept public comment on the Draft EIS. DOE will include all comments received on the Draft EIS, and responses to those comments, in the Final EIS.

DOE will provide a public comment period of at least 45 days from the Environmental Protection Agency's (EPA's) Notice of Availability (NOA) of the Draft EIS and will hold at least one public hearing during the public comment period. DOE may not issue a record of decision sooner than 90 days from EPA's NOA of the Draft EIS and no sooner than 30 days from EPA's NOA of the Final EIS.

Issued in Washington, DC, on June 1, 2007.
Kevin M. Kolevar,
Director, Office of Electricity Delivery and Energy Reliability.

[FR Doc. E7-11010 Filed 6-6-07; 8:45 am]

BILLING CODE 6450-01-P